FEDERAL MINE SAFETY AND HEALTH REVIEW COMMISSION

Sunshine Act; Notice of Meetings

Time and Date: 10 a.m., Wednesday, June 10, 2009.

Place: The Richard V. Backley Hearing Room, 9th Floor, 601 New Jersey Avenue, NW., Washington, DC.

Status: Open.

Matters To Be Considered: The Commission will consider and act upon the following in open session: Secretary of Labor v. IO Coal Company, Inc., Docket No. WEVA 2007-293. (Issues include whether the Administrative Law Judge properly concluded that the violation of the mine's roof control plan did not constitute an unwarrantable failure.)

Any person attending this meeting who requires special accessibility features and/or auxiliary aids, such as sign language interpreters, must inform the Commission in advance of those needs. Subject to 29 CFR 2706.150(a)(3) and § 2706.160(d).

CONTACT PERSON FOR MORE INFORMATION: Jean Ellen (202) 434-9950/(202) 708-9300 for TDD Relay/1-800-877-8339 for toll free.

Jean H. Ellen,
Chief Docket Clerk.

[FR Doc. E9-12370 Filed 5-22-09; 11:15 am]

BILLING CODE 6735-01-P